COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds products to the Procurement List that will be furnished by nonprofit agencies employing persons who are blind or have other severe disabilities.

DATES: Effective 8/10/2015.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Additions

On 6/5/2015 (80 FR 32096-32097), the Committee for Purchase From People Who Are Blind or Severely Disabled published notice of proposed additions to the Procurement List.

After consideration of the material presented to it concerning capability of qualified nonprofit agencies to provide the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSN—Product Name: MR 843—Set, Bag Clip, 5 pc.

Mandatory Purchase For: Military commissaries and exchanges in accordance with the Code of Federal Regulations, Chapter 51, 51-6.4.

Mandatory Source of Supply: Industries for the Blind, Inc., West Allis, WI.

Contracting Activity: Defense Commissary Agency, Fort Lee, VA.

Distribution: C-List.

NSNs—Product Names:

7530-00-NIB-1158—Label, Address, Recycled, Laser and Inkjet, White, 1″ × 4″

7530-00-NIB-1159—Label, Address, Recycled, Laser and Inkjet, White, 2″ × 4″

7530-00-NIB-1160—Label, Address, Recycled, Laser and Inkjet, White, 1 ⅓″ × 4″

Mandatory Purchase For: Total Government Requirement.

Mandatory Source of Supply: North Central Sight Services, Inc., Williamsport, PA.

Contracting Activity: General Services Administration, New York, NY.

Distribution: A-List.

Barry S. Lineback,
Director, Business Operations.

[FR Doc. 2015-16934 Filed 7-9-15; 8:45 am]

BILLING CODE 6353-01-P